DEPARTMENT OF HOMELAND SECURITY

Federal Emergency Management Agency

[Docket ID FEMA-2021-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Alabama:
Madison (FEMA Docket No.: B-2117) | City of Huntsville (19-04-5211P). | The Honorable Thomas Battle, Jr., Mayor, City of Huntsville, 308 Fountain Circle, 8th Floor, Huntsville, AL 35801. | City Hall, 308 Fountain Circle, 8th Floor, Huntsville, AL 35801. | May 20, 2021 | 010153
Madison (FEMA Docket No.: B-2117) | Unincorporated Areas of Madison County (19-04-5211P). | The Honorable Dale W. Strong, Chairman, Madison County Commission, 100 North Side Square, Huntsville, AL 35801. | Madison County, Engineering Department, 100 Hughes Road, Madison, AL 35758. | May 20, 2021 | 010151
Arizona: Yavapai (FEMA Docket No.: B-2109) | City of Prescott (20-09-1903P). | The Honorable Greg Mengarelli, Mayor, City of Prescott, 201 South Cortez Street, Prescott, AZ 86303. | Public Works Department, 433 North Virginia Street, Prescott, AZ 86301. | May 13, 2021 | 040098
Arkansas: Pulaski (FEMA Docket No.: B-2109) | City of Little Rock (20-06-3649P). | The Honorable Frank D. Scott Jr., Mayor, City of Little Rock, 500 West Markham Street, Room 203, Little Rock, AR 72201. | Department of Public Works, 701 West Markham Street, Little Rock, AR 72201. | May 17, 2021 | 050181
Colorado:
Arapahoe (FEMA Docket No.: B-2109) | City of Littleton (21-08-0174P). | The Honorable Jerry Valdes, Mayor, City of Littleton, 2255 West Berry Avenue, Littleton, CO 80120. | Public Works Department, 2255 West Berry Avenue, Littleton, CO 80120. | May 7, 2021 | 080017
Chaffee (FEMA Docket No.: B-2109) | Unincorporated areas of Chaffee County (20-08-0467P). | The Honorable Greg Felt, Chairman, Chaffee County Board of Commissioners, P.O. Box 699, Salida, CO 81201. | Chaffee County Planning and Zoning Department, 104 Crestone Avenue, Room 125, Salida, CO 81201. | Apr. 28, 2021 | 080269
Denver (FEMA Docket No.: B-2109) | City and County of Denver (20-08-0532P). | The Honorable Michael Hancock, Mayor, City and County of Denver, 1437 North Bannock Street, Room 350, Denver, CO 80202. | Department of Transportation and Infrastructure, 201 West Colfax Avenue, Department 507, Denver, CO 80202. | May 7, 2021 | 080046
Douglas (FEMA Docket No.: B-2109) | Unincorporated areas of Douglas County (20-08-0491P). | The Honorable Roger A. Partridge, Chairman, Douglas County Board of Commissioners, 100 3rd Street, Castle Rock, CO 80104. | Douglas County Public Works Department, Engineering Division, 100 3rd Street, Castle Rock, CO 80104. | Apr. 23, 2021 | 080049
Connecticut:
Fairfield (FEMA Docket No.: B-2106) | Town of Stratford (20-01-0502P). | The Honorable Laura R. Hoydick, Mayor, Town of Stratford, 2725 Main Street, Stratford, CT 06615. | Building Department, 2725 Main Street, Stratford, CT 06615. | Apr. 26, 2021 | 090016
New London (FEMA Docket No.: B-2109) | Town of Waterford (20-01-1244P). | The Honorable Robert J. Brule, First Selectman, Town of Waterford Board of Selectmen, 15 Rope Ferry Road, Waterford, CT 06385. | Planning and Development Department, 15 Rope Ferry Road, Waterford, CT 06385. | May 7, 2021 | 090107
Florida:
Collier (FEMA Docket No.: B-2117) | City of Naples (20-04-6275P). | The Honorable Teresa L. Heitmann, Mayor, City of Naples, 735 8th Street South, Naples, FL 34102. | Building Department, 295 Riverside Circle, Naples, FL 34102. | May 13, 2021 | 125130
Marion (FEMA Docket No.: B-2106) | Unincorporated areas of Marion County (20-04-1412P). | The Honorable Mounir Bouyounes, Marion County Administrator, 601 Southeast 25th Avenue, Ocala, FL 34471. | Office of Marion County Administrator, 601 Southeast 25th Avenue, Ocala, FL 34471. | May 6, 2021 | 120160
Monroe (FEMA Docket No.: B-2106) | Unincorporated areas of Monroe County (20-04-4391P). | The Honorable Michelle Coldiron, Mayor, Monroe County Board of Commissioners, 25 Ships Way, Big Pine Key, FL 33042. | Monroe County Building Department, 2798 Overseas Highway, Suite 300, Marathon, FL 33050. | Apr. 26, 2021 | 125129
Pinellas (FEMA Docket No.: B-2119) | City of Indian Rocks Beach (20-04-4881P). | Mr. Brently Gregg Mims Manager, City of Indian Rocks Beach, 1507 Bay Palm Boulevard, Indian Rocks Beach, FL 33785. | Building Department, 1507 Bay Palm Boulevard, Indian Rocks Beach, FL 33785. | May 13, 2021 | 125117
Georgia:
Bryan (FEMA Docket No.: B-2109) | Unincorporated areas of Bryan County (20-04-3250P). | The Honorable Carter Infinger, Chairman, Bryan County Board of Commissioners, P.O. Box 430, Pembroke, GA 31321. | Bryan County Department of Community Development, 6 Captain Matthew Freeman Drive, Suite 2016, Richmond Hill, GA 31324 | May 14, 2021 | 130016
Coweta (FEMA Docket No.: B-2106) | Unincorporated areas of Coweta County (21-04-0345P). | The Honorable Paul Poole, Chairman, Coweta County Board of Commissioners, 22 East Broad Street, Newnan, GA 30263. | Coweta County Community Development Department, 22 East Broad Street, Newnan, GA 30263. | May 6, 2021 | 130298
Louisiana: Tangipahoa (FEMA Docket No.: B-2109) | Unincorporated areas of Tangipahoa Parish (20-06-1407P). | Mr. Robby Miller, Tangipahoa Parish President, P.O. Box 215, Amite, LA 70422. | Tangipahoa Parish Office of Community Development, 15485 West Club Deluxe Road, Hammond, LA 70403. | May 5, 2021 | 220206
Mississippi:
Copiah (FEMA Docket No.: B-2106) | City of Hazlehurst (20-04-2010P). | The Honorable Shirley Sandifer, Mayor, City of Hazlehurst, P.O. Box 549, Hazlehurst, MS 39083. | City Hall, 209 South Extension Street, Hazlehurst, MS 39083. | May 6, 2021 | 280046
Copiah (FEMA Docket No.: B-2106) | Unincorporated areas of Copiah County (20-04-2010P). | The Honorable Ronnie Barlow, Copiah County Administrator, P.O. Box 551, Hazlehurst, MS 39083. | Copiah County Courthouse, 122 South Lowe Street, Hazlehurst, MS 39083. | May 6, 2021 | 280221
New Mexico: Dona Ana (FEMA Docket No.: B-2106) | City of Las Cruces (20-06-1381P). | The Honorable Ken Miyagishima, Mayor, City of Las Cruces, 700 North Main Street, Las Cruces, NM 88001. | City Hall, 700 North Main Street, Las Cruces, NM 88001. | Apr. 28, 2021 | 355332
Texas:
Bexar and Guadalupe (FEMA Docket No.: B-2117) | City of Selma (20-06-1874P). | The Honorable Tom Daly, Mayor, City of Selma, 9375 Corporate Drive, Selma, TX 78154. | Geographic Information Systems (GIS) Department, 9375 Corporate Drive, Selma, TX 78154. | May 10, 2021 | 480046
Bexar (FEMA Docket No.: B-2117) | Unincorporated areas of Bexar County (20-06-1284P). | The Honorable Nelson W. Wolff, Bexar County Judge, 101 West Nueva Street, 10th Floor, San Antonio, TX 78205. | Bexar County Public Works Department, 1948 Probandt Street, San Antonio, TX 78214. | May 10, 2021 | 480035
Collin and Denton (FEMA Docket No.: B-2117) | City of Celina (20-06-2234P). | The Honorable Sean Terry, Mayor, City of Celina, 142 North Ohio Street, Celina, TX 75009. | City Hall, 142 North Ohio Street, Celina, TX 75009. | May 17, 2021 | 480133
Collin (FEMA Docket No.: B-2117) | City of Princeton (20-06-2556P). | Mr. Derek Borg, City of Princeton Manager, 123 West Princeton Drive, Princeton, TX 75407. | City Hall, 123 West Princeton Drive, Princeton, TX 75407. | Apr. 30, 2021 | 480757
Collin (FEMA Docket No.: B-2117) | Town of Prosper (20-06-2234P). | The Honorable Ray Smith, Mayor, Town of Prosper, P.O. Box 307, Prosper, TX 75078. | Engineering Services Department, 250 West 1st Street, Prosper, TX 75078. | May 17, 2021 | 480141
Denton (FEMA Docket No.: B-2117) | Unincorporated areas of Denton County (20-06-2234P). | The Honorable Andy Eads, Denton County Judge, 110 West Hickory Street, 2nd Floor, Denton, TX 76201. | Denton County Development Services Department, 3900 Morse Street, Denton, TX 76208. | May 17, 2021 | 480774
Harris (FEMA Docket No.: B-2106) | City of Houston (21-06-0023P). | The Honorable Sylvester Turner, Mayor, City of Houston, P.O. Box 1562, Houston, TX 77251. | Public Works and Engineering, Floodplain Management Department, 1002 Washington Avenue, 3rd Floor, Houston, TX 77251. | Apr. 26, 2021 | 480296
Harris (FEMA Docket No.: B-2106) | Unincorporated areas of Harris County (20-06-2992P). | The Honorable Lina Hidalgo, Harris County Judge, 1001 Preston Street, Suite 911, Houston, TX 77002. | Harris County Permit Department, 10555 Northwest Freeway, Suite 120, Houston, TX 77092. | Apr. 26, 2021 | 480287
Tarrant (FEMA Docket No.: B-2109) | City of Fort Worth (20-06-2746P). | The Honorable Betsy Price, Mayor, City of Fort Worth, 200 Texas Street, Fort Worth, TX 76102. | Transportation and Public Works Department, Engineering Vault, 200 Texas Street, Fort Worth, TX 76102. | May 13, 2021 | 480596
Virginia:
Loudoun (FEMA Docket No.: B-2106) | Unincorporated areas of Loudoun County (20-03-1566P). | Mr. Tim Hemstreet, Loudoun County Administrator, P.O. Box 7000, Leesburg, VA 20177. | Loudoun County Mapping and Geographic Information (GIS) Department, 1 Harrison Street Southeast, Leesburg, VA 20175. | May 10, 2021 | 510090
Tazewell (FEMA Docket No.: B-2109) | Unincorporated areas of Tazewell County (20-03-1438P). | The Honorable Charles A. Stacy, Chairman, Tazewell County Board of Supervisors, P.O. Box 1025, Bluefield, VA 25605. | Tazewell County Engineering Department, 173 Main Street, Tazewell, VA 24651. | May 13, 2021 | 510160

[FR Doc. 2021-13861 Filed 6-28-21; 8:45 am]

BILLING CODE 9110-12-P